DEPARTMENT OF DEFENSE

Department of the Army, Corps of Engineers

Policy and Procedural Guidance for Processing Requests To Alter U.S. Army Corps of Engineers Civil Works Projects Pursuant to Section 408

AGENCY: U.S. Army Corps of Engineers, DoD.

ACTION: Extension of comment period.

SUMMARY: On February 5, 2018, the U.S. Army Corps of Engineers (USACE) published a notice announcing the availability of a draft Engineer Circular (EC), which is an agency policy document, for a 30-day comment period. This draft EC provides the proposed policies and procedures related to how USACE will process certain requests by others to alter a USACE civil works project pursuant to Section 14 of the Rivers and Harbors Act of 1899, as amended (more commonly referred to as Section 408). This notice announces the extension of the comment period by an additional 30 days. The extension of the comment period is a result of requests by entities to allow more time to submit their comments. The draft EC is available for review on the USACE Section 408 website (http://www.usace.army.mil/Missions/Civil-Works/Section408/) and at http://www.regulations.gov reference docket number COE-2018-0003.

DATES: The public comment period that began on February 5, 2018 (83 FR 5075) is extended until April 6, 2018.

ADDRESSES: You may submit comments identified by docket number COE-2018-0003 by any of the following methods:

Federal eRulemaking Portal: http://www.regulations.gov. Follow the instructions for submitting comments.

Email: HQ-Section408@usace.army.mil and include the docket number COE-2018-0003 or “EC 1165-2-220 Comments” in the subject line of the message.

Mail: Headquarters, U.S. Army Corps of Engineers, ATTN: CECW-CE/3E62, 441 G Street NW, Washington, DC 20314-1000.

Hand Delivery/Courier: Due to security requirements, we cannot receive comments by hand delivery or courier.

Instructions: Instructions for submitting comments are provided in the document published on February 5, 2018 (83 FR 5075). Consideration will be given to all comments received by April 6, 2018.

FOR FURTHER INFORMATION CONTACT: Ms. Tammy Conforti at 202-761-4649, email HQ-Section408@usace.army.mil, or visit http://www.usace.army.mil/Missions/Civil-Works/Section408/.

SUPPLEMENTARY INFORMATION: In the February 5, 2018 issue of the Federal Register (83 FR 5075), the U.S. Army Corps of Engineers (USACE) published a notice announcing the availability of a draft Engineer Circular (EC), which is an agency policy document, for a 30-day comment period. This draft EC provides the proposed policies and procedures related to how USACE will process certain requests by others to alter a USACE civil works project pursuant to Section 14 of the Rivers and Harbors Act of 1899, as amended (more commonly referred to as Section 408). Several entities have requested an extension of the comment period. USACE finds that an extension of the comment period is warranted. Therefore, the comment period for the draft EC extended until April 6, 2018.

Dated: February 20, 2018.
James C. Dalton,
Director of Civil Works.

[FR Doc. 2018-03851 Filed 2-23-18; 8:45 am]

BILLING CODE 3720-58-P